DEPARTMENT OF THE INTERIOR

Fish and Wildlife Service

Notice of Intent To Issue a Final Comprehensive Conservation Plan, Associated Environmental Assessment, and Finding of No Significant Impact for Balcones Canyonlands National Wildlife Refuge in the Southwest Region

AGENCY: Fish and Wildlife Service, Interior.

ACTION: Notice.

SUMMARY: This notice advises the public that the U.S. Fish and Wildlife Service (Service) has prepared a Final Comprehensive Conservation Plan (CCP), associated Environmental Assessment (EA), and a Finding of No Significant Impact (FONSI) for the Balcones Canyonlands National Wildlife Refuge, north of Austin, Texas, pursuant to the National Wildlife Refuge System Improvement Act of 1997, and National Environmental Policy Act of 1969, and its implementing regulations. The Regional Director, Southwest Regional Office, upon issuing a FONSI, considered a reasonable range of management framework alternatives, and has selected Alternative 2, found in the EA, to be the Service's proposed alternative.

Approval of the Balcones Canyonlands NWR CCP formalizes 8 goals which will result in:

• Restoration and enhancement of threatened and endangered species habitat on Refuge lands. (Goal 1)

• Protection and enhancement of habitat for a diversity of wildlife including other migratory birds. (Goal 2)

• Restoration of watershed health to minimize sheet runoff and siltation, enhance seasonal stream flow, and maximize ground and surface water recharge. (Goal 3)

• Development of interpretive programs that enable the public to (1) enjoy the fish and wildlife resources found on the refuge, (2) understand these resources and issues related to them, and (3) act to promote fish and wildlife conservation. (Goal 4)

• Protection of habitat within approved Refuge boundaries by fee acquisition or conservation easement. (Goal 5)

• Accurate, up-to-date data on roads, other physical infrastructure, habitats and wildlife, and plant species.(Goal 6)

• Compliance with historic and archeological resource protection laws and regulations. (Goal 7)

• Efficient Administration that Supports Refuge Objectives

Accomplishments. (Goal 8)

Some of the specific changes to the existing program changes include but are not necessarily limited to the following objectives:

• Restore and enhance 500 acres of black-capped vireo habitat within 10 years.

• Maintain brown-headed cowbirds parasitism on black-capped vireo nests below 10%.

• Protect existing golden-cheeked warbler habitat on Refuge lands and enhance additional areas for golden-cheeked warbler where appropriate.

• Within five years design and begin to implement a plan to locate and map caves and other karst features, monitor changes occurring in them, and take actions as needed to protect them.

• Continue to support and promote the conservation of the golden-cheeked warbler and black-capped vireo in their migration and wintering areas through coordination with Central American ornithologists and participation in the Nature Conservancy's International Program.

• Within 10 years restore and manage at least 1,000 acres of existing and former native grassland and savannah habitat on the Refuge and increase the amount and diversity of native annual and perennial grasses and forbs on the refuge.

• Within ten years, design and implement a plan to restore wetlands and riparian corridors.

• Within ten years rehabilitate and improve existing wells for wildlife water sources for public viewing sites using wind and solar power.

• Control invasive species (e.g. second-growth juniper, prickly pear and false-willow) on at least 50 acres per year to improve ground cover and plant diversity.

• Reduce the Refuge white-tailed deer herd to achieve and maintain a density of one deer per 20 or more acres within five years to reduce adverse effects on Refuge habitat.

• Maintain and increase herbarium collection and print a Refuge Plant list within three years. Identify native plant and wildlife species that are unique to the Balcones Canyonlands region for potential restoration and enhancement on the Refuge.

• Control feral, exotic and domestic animals that can compete with native wildlife and damage its habitat (e.g. dogs, cats, feral hogs, emu, etc.). Complete hog control plan within three years.

• Restore native plant growth on eroded and disturbed sites to increase water holding capacity of the soils. Restore 50 acres per year.

• Through increasing visitation to 5,000 visitors per year, provide public opportunities to view and learn about Refuge wildlife species and representative habitat characteristics of the Texas Hill Country, and to promote a conservation ethic.

• Provide compatible wildlife dependent outdoor recreational opportunities for the public on the Refuge to include wildlife viewing access, while striving for a balance between conflicting user groups. Annually evaluate hunting program to include newly acquired tracts.

• Within five years develop a public outreach program to aid in the understanding of Refuge purposes, issues specific to Balcones Canyonlands National Wildlife Refuge.

• Within five years develop a public outreach program to aid in the understanding of Refuge purposes, issues specific to Balcones Canyonlands National Wildlife Refuge.

• Within five years design and implement Partnership and Volunteer programs to facilitate meeting Refuge management objectives.

• Improve five miles of public or administrative roads per year to improve access to the Refuge for public and administrative use.

• Annually review and update the land protection plan priorities. Acquire lands according to revised priorities.

• Meet with five private owners of lands within the Refuge per year to exchange information and provide assistance on management of wildlife populations and endangered species habitat.

• Within five years map roads, inspect ponds, map and monitor Refuge habitats and species distributions.

• Within three years, create and maintain a database of Refuge biological resources for use in making management decisions and documenting changes in habitat and wildlife composition.

• Maintain files on all archeological and cultural resource sites. Annually inspect all sites and record condition.

• Within three years complete plans for implementation of objectives and strategies in this comprehensive conservation plan.

• Within five years increase Refuge staff to meet minimal needs for implementation of Refuge objectives and strategies identified in this comprehensive conservation plan.

• Conduct, encourage and support research and management studies that will increase scientific data available for use in making Refuge management decisions.

• Within five years obtain adequate equipment and storage facilities to implement management strategies to meet objectives identified in this management plan.

• Within five years plan acquisition, remodeling and/or construction of a permanent Refuge Office and Visitor Contact Station to be located on Refuge lands.

The implementation of the above management approaches among others and employment of strategies associated with those approaches should assist in the achievement of the refuge's broad goals.

Based on a review and evaluation of the information contained in the CCP and EA for the Balcones Canyonlands National Wildlife Refuge, the Regional Director, Southwest Region, U.S. Fish and Wildlife Service, has selected Alternative 2 detailed in the EA. Consequently the Regional Director has determined that the approval of the individual or cumulative approaches reflected in Alternative 2 the Proposed Alternative and CCP Goals, Objectives and Strategies, is not deemed to constitute a major Federal action which would significantly affect the quality of the human environment within the meaning of Section 102(2) (c) of the National Environmental Policy Act (NEPA). Therefore, an Environmental Impact Statement is not required. However, it is the intent of the Service to revisit questions of potential significant environmental consequences in accordance with NEPA upon consideration of the implementation of site specific proposals called for and discussed in the final plan document.

ADDRESSES: A paper copy and/or a Compact Disk copy may be obtained by writing to: Mr. John Slown, Natural Resource Planner, Division of Refuges, U.S. Fish and Wildlife Service, P.O. Box 1306, Albuquerque, NM 87103-1306.

SUPPLEMENTARY INFORMATION: It is Service policy to have all lands within the National Wildlife Refuge System managed in accordance with an approved CCP. The CCP guides management decisions and identifies refuge goals, long-range objectives, and strategies for achieving refuge purposes. The planning process has considered many elements, including habitat and wildlife management, habitat protection and acquisition, public and recreational uses, and cultural resources. Public input into this planning process has assisted in the development of these documents. The CCP will provide other agencies and the public with a clear understanding of the desired conditions for the Refuges and how the Service will implement management strategies.

The Service considered comments and advice generated in response to draft documents issued in November 1998. The Service is furnishing this notice in compliance with Service CCP policy to advise other agencies and the public of the availability of the final documents.

Dated: March 8, 2002.
Geoffrey L. Haskett,
Acting Regional Director.

[FR Doc. 02-6768 Filed 3-19-02; 8:45 am]

BILLING CODE 4310-55-P